DEPARTMENT OF THE INTERIOR

United States Geological Survey

Climate Change Science Program Committee for Synthesis and Assessment Product 3.4: Abrupt Climate Change

AGENCY: U.S. Geological Survey, Interior.

ACTION: Establishment of a Federal Advisory Committee.

SUMMARY: This notice is published in accordance with Section 9(a) of the Federal Advisory Committee Act of 1972 (Pub. L. 92-463). Following consultation with the General Services Administration, notice is hereby given that the Secretary of the Interior has established the United States Geological Survey—Climate Change Science Program Committee for Synthesis and Assessment Product 3.4: Abrupt Climate Change. The Climate Change Science Program (CCSP), a consortium of federal agencies performing climate science, has established a synthesis and assessment (S&A) program as a part of its Strategic Plan. There are 21 S&A products to be administered by 13 federal agencies over a 5 year period. The U.S. Geological Survey, a participant in the CCSP, is responsible for 3 S&A products. S&A product 3.4: Abrupt Climate Change is the subject of this federal advisory committee.

The primary function of the committee is to synthesize and assess the state fo knowledge on the topic of abrupt climate change and communicate this information to the U.S. Geological Survey. Committee members will meet and discuss issues relating to the study design, research methodology, data sources and quality, and study findings. The committee will draft a report that will serve as the CCSP definitive document on current knowledge pertaining to the topic of abrupt climate change. Membership will consist of federal and non-federal scientists who are recognized as experts in the climate science community.

FOR FURTHER INFORMATION CONTACT: John P. McGeehin, U.S. Geological Survey, MS926A National Center, Reston, Virginia 20192, (703) 648-5349.

Dated: December 20, 2006.
Dirk Kempthorne,
Secretary of the Interior.

[FR Doc. 07-111 Filed 1-12-07; 8:45 am]

BILLING CODE 4311-AM-M